FEDERAL COMMUNICATIONS COMMISSION

Notice of Public Information Collection(s) Being Reviewed by the Federal Communications Commission; Comments Requested

February 22, 2007.

SUMMARY: The Federal Communications Commission, as part of its continuing effort to reduce paperwork burden, invites the general public and other Federal agencies to take this opportunity to comment on the following information collection(s), as required by the Paperwork Reduction Act (PRA) of 1995, Public Law No. 104-13. An agency may not conduct or sponsor a collection of information unless it displays a currently valid control number. No person shall be subject to any penalty for failing to comply with a collection of information, subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before April 30, 2007. If you anticipate that you will be submitting comments, but find it difficult to do so within the period of time allowed by this notice, you should advise the contact listed below as soon as possible.

ADDRESSES: You may submit PRA comments identified by [CG Docket No. 03-123 and/or OMB Control Number 3060-0463], by any of the following methods:

• Federal eRulemaking Portal: http://www.regulations.gov. Follow the instructions for submitting comments.

• Federal Communications Commission's Web Site: http://www.fcc.gov/cgb/ecfs/. Follow the instructions for submitting comments.

• E-mail: Parties who choose to file by email should submit their PRA comments to PRA@fcc.gov and to Allison E. Zaleski at Allison_E._Zaleski@omb.eop.gov. Please include the docket number and/or OMB Control number in the subject line of the message.

• Mail/Fax: Parties who choose to file by paper should submit their PRA comments to Cathy Williams, Federal Communications Commission, Room 1-C823, 445 12th Street, SW., Washington, DC 20554, and to Allison E. Zaleski, OMB Desk Officer, Room 10236 NEOB, 725 17th Street, NW., Washington, DC 20503 or via fax at (202) 395-5167.

• People with Disabilities: Contact the FCC to request reasonable accommodations (accessible format documents, sign language interpreters, CART, etc.) by e-mail: FCC504@fcc.gov or phone (202) 418-0539 or TTY: (202) 418-0432.

FOR FURTHER INFORMATION CONTACT: For additional information about the information collection(s), send an e-mail to PRA@fcc.gov or contact Cathy Williams at 202-418-2918.

SUPPLEMENTARY INFORMATION: OMB Control Number: 3060-0463.

Title: Telecommunications Relay Services and the Americans with Disabilities Act of 1990, 47 CFR 64.601 through 64.605.

Form Number: N/A.

Type of Review: Extension of a currently approved collection.

Respondents: Business or other for-profit entities, state, local or tribal government.

Number of Respondents: 5,052.

Estimated Time per Response: 6 hours.

Frequency of Response: On occasion, Annual, Every five years reporting requirements; Recordkeeping requirement; Third party disclosure requirement.

Obligation to Respond: Required to obtain or retain benefits.

Total Annual Burden: 26,831 hours.

Total Annual Cost: None.

Nature and Extent of Confidentiality: An assurance of confidentiality is not offered because this information collection does not require the collection of personal identifiable information (PII) from individuals.

Privacy Impact Assessment: No impact(s).

Needs and Uses: The Americans with Disabilities Act of 1990 (ADA), Public Law 101-336, 104 Statute 327, 366-69, was enacted on July 26, 1990. The purpose of the ADA is to provide a clear and comprehensive national mandate to end discrimination against individuals with disabilities and to bring persons with disabilities into the economic and social mainstream of American life; to provide enforceable standards addressing discrimination against individuals with disabilities; and to ensure that the Federal government play a central role in enforcing these standards on the behalf of individuals with disabilities. Title IV of the ADA adds § 225 to the Communications Act of 1934. Section 225 of the Communications Act, requires the Commission to promulgate regulations that require all domestic telephone common carriers to provide telecommunications relay services (TRS). 47 CFR part 64, subpart F of the Commission's rules, implements certain provisions of the ADA. It contains the operational, technical, and functional standards required of all TRS providers and the procedures for state certification. Although § 225 of the Communications Act imposes on all common carriers providing interstate or intrastate telephone services an obligation to provide to hearing and speech-impaired individuals telecommunications services that enable them to communicate with hearing individuals, and charges the Commission with regulatory oversight, states may seek to establish intrastate relay services that satisfy federal requirements.

Pursuant to 47 CFR 64.602 Commission's rules, any violation of subpart F by any common carrier engaged in intrastate communications will be subject to the same remedies, penalties, and procedures as are applicable in interstate communications.

Federal Communications Commission.
Marlene H. Dortch,
Secretary.

[FR Doc. E7-3524 Filed 2-28-07; 8:45 am]

BILLING CODE 6712-01-P